DEPARTMENT OF DEFENSE

Department of the Navy

Notice of Intent To Grant Exclusive Patent License; Thiokol Propulsion, a Division of Cordant Technologies, Inc.

AGENCY: Department of the Navy, DOD.

ACTION: Notice.

SUMMARY: The Department of the Navy hereby gives notice of its intent to grant to Thiokol Propulsion, a Division of Cordant Technologies, Inc., a revocable, nonassignable, exclusive license in the United States, to practice the Government-owned invention described in U.S. No. 5,693,794 entitled “Caged Polynitramine Compound.”

DATES: Anyone wishing to object to the granting of this license must file written objections along with supporting evidence, if any, not later than April 3, 2000.

ADDRESSES: Written objections are to be filed with the Office of Naval Research, ONR 00CC, Ballston Tower One, 800 North Quincy Street, Arlington, Virginia 22217-5660.

FOR FURTHER INFORMATION CONTACT: Mr. John G. Wynn, Associate Counsel Intellectual Property, Office of Naval Research, ONR 00CC, Ballston Tower One, 800 North Quincy Street, Arlington, Virginia 22217-5660, telephone (703) 696-4004, e-mail wynnj@onr.navy.mil or fax (703) 696-6909.

(Authority: 35 U. S. C. 207, 37 CFR Part 404)

Dated: January 18, 2000.
J.L. Roth,
Lieutenant Commander, Judge Advocate General's Corps, U. S. Navy, Federal Register Liaison Officer.

[FR Doc. 00-2426 Filed 2-2-00; 8:45 am]

BILLING CODE 3810-FF-P